DEPARTMENT OF ENERGY

Federal Energy Regulatory Commission

[Project Nos. P-2403-056; P-2721-020; P-2312-019]

Penobscot River Restoration Trust; Notice of Application for Surrender of Licenses Accepted for Filing, Soliciting Comments, Motions To Intervene and Protests, Ready for Environmental Analysis

January 26, 2009.

Take notice that the following hydroelectric application has been filed with the Commission and is available for public inspection.

a. Type of Application: Surrender of Licenses.

b. Project Nos.: P-2403-056, P-2721-020, P-2312-019.

c. Date filed: November 7, 2008.

d. Applicant: Penobscot River Restoration Trust (Trust). PPL Maine, LLC is the licensee for the Veazie (P-2403) and Howland (P-2721) Projects and PPL Great Works, LLC is the licensee for the Great Works Project (P-2312). Pursuant to the transfer orders issued January 6, 2009, the Trust is to become the licensee once the instruments of conveyance are signed. Pursuant to the Lower Penobscot River Basin Comprehensive Settlement Accord filed on June 25, 2004, the transfer of ownership to the Trust is contingent upon the issuance of the license surrender order.

e. Name of Projects: Veazie, Howland and Great Works Hydroelectric Projects.

f. Location: The Veazie and Great Works Projects are located on the Penobscot River in Penobscot County, Maine. The Howland Project is located on the Piscataquis River in Penobscot County, Maine.

g. Filed Pursuant to: Federal Power Act 16 U.S.C. 791(a)-825(r).

h. Applicant Contact: Ms. Laura Rose Day, Penobscot River Restoration Trust, P.O. Box 5695, Augusta, Maine 04332, Telephone (207) 430-0114, e-mail laura@penobscotriver.org.

i. FERC Contact: Ms. Brandi Sangunett, Telephone (202) 502-8393, and e-mail brandi.sangunett@ferc.gov.

j. Deadline for filing motions to intervene and protests, comments, recommendations is 30 days from the issuance of this notice. All documents (original and eight copies) should be filed with: Kimberly D. Bose, Secretary, Federal Energy Regulatory Commission, 888 First Street, NE., Washington, DC 20426.

k. Description of Request: The applicant proposes to surrender the licenses for the Veazie, Great Works and Howland Hydroelectric Projects. In addition, the applicant proposes to decommission and remove the dams at the Veazie and Great Works Projects. Further, the applicant proposes to decommission the powerhouse, generating units, and existing fish ladder at the Howland Project. The applicant proposes to keep the Howland dam in place but remove the flashboards to lower the reservoir by 0.8 feet and create a nature-like fish bypass reach around the south end of the dam. This application is part of a four phase program to restore native sea-run fish through improved access to 1,000 miles of their historic habitat in the Penobscot River watershed while also accommodating the continued generation of hydroelectric power at specified locations.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE”; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

p. As provided for in 18 CFR 4.34(b)(5)(i), a license applicant must file, no later than 60 days following the date of issuance of this notice of acceptance and ready for environmental analysis: (1) A copy of the water quality certification; (2) a copy of the request for certification, including proof of the date on which the certifying agency received the request; or (3) evidence of waiver of water quality certification.

q. e-Filing: Comments, motions to intervene or protests may be filed electronically via the Internet in lieu of paper. See, 18 CFR 385.2001(a)(1)(iii) and the instructions on the Commission's Web site at http://www.ferc.gov under the “e-Filing” link.

Kimberly D. Bose,
Secretary.

[FR Doc. E9-2157 Filed 1-30-09; 8:45 am]

BILLING CODE 6717-01-P